DEPARTMENT OF HOUSING AND URBAN DEVELOPMENT

[Docket No. FR-6025-N-01]

Mortgagee Review Board: Administrative Actions

AGENCY: Office of the Assistant Secretary for Housing—Federal Housing Commissioner, Department of Housing and Urban Development (“HUD”).

ACTION: Notice.

SUMMARY: In compliance with Section 202(c)(5) of the National Housing Act, this notice advises of the cause and description of administrative actions taken by HUD's Mortgagee Review Board against HUD-approved mortgagees.

FOR FURTHER INFORMATION CONTACT: Nancy A. Murray, Secretary to the Mortgagee Review Board, 451 Seventh Street SW., Room B-133/3150, Washington, DC 20410-8000; telephone (202) 708-2224 (this is not a toll-free number). Persons with hearing or speech impairments may access this number through TTY by calling the toll-free Federal Information Service at (800) 877-8339.

SUPPLEMENTARY INFORMATION: Section 202(c)(5) of the National Housing Act (12 U.S.C. 1708(c)(5)) requires that HUD “publish a description of and the cause for administrative action against a HUD-approved mortgagee” by HUD's Mortgagee Review Board (“Board”). In compliance with the requirements of Section 202(c)(5), this notice advises of actions that have been taken by the Board in its meetings from October 1, 2015 to September 30, 2016.

I. Civil Money Penalties, Withdrawals of FHA Approval, Suspensions, Probations, Reprimands, and Administrative Payments

1. AmCap Mortgage, Ltd., Houston, TX [Docket No. 15-1889-MR]

Action: On June 16, 2016, the Board voted to accept the terms of a settlement agreement with AmCap Mortgage, Ltd. (“AmCap”) that required AmCap to (a) pay a civil money penalty in the amount of $262,500; (b) pay an additional $75,000; and (c) refrain from making any claim for insurance benefits and/or indemnify HUD/FHA for all losses associated with three HUD/FHA insured loans. The settlement did not constitute an admission of liability or fault.

Cause: The Board took this action based on the following violations of HUD/FHA requirements alleged by HUD: AmCap (a) falsely certified to HUD/FHA that it had complied with all HUD/FHA regulations in its 2013 and 2014 annual certifications; (b) failed to timely notify HUD of four incidents in which AmCap and its employees were sanctioned by the states of Utah and Oklahoma; (c) failed to ensure the correct branch identification number was used when originating four HUD/FHA insured mortgage loans; (d) failed to perform quality control reviews for 43 loans that had early payment defaults; (e) failed to perform the HUD/FHA required management response to address material appraisal deficiencies identified in the quality control report for one loan; (f) failed to include all of the borrower's liabilities in determining the debt to income ratio for one loan; (g) failed to properly document the source of closing funds for two loans; and (h) failed to question the appraiser's use of properties as comparables that were not of the same quality as the subject modular home for one loan.

2. BancFirst, Oklahoma City, OK [Docket No. 16-1736]

Action: On August 25, 2016, the Board voted to seek civil money penalties against BancFirst. The Board entered into a settlement agreement with BancFirst that required BancFirst to pay a civil money penalty in the amount of $17,000 without admitting fault or liability.

Cause: The Board took this action based on the following violations of HUD/FHA requirements alleged by HUD: BancFirst (a) failed to properly notify HUD/FHA it had acquired CSB Bancshares, Inc. and its subsidiary bank, Bank of Commerce; and (b) falsely certified to HUD/FHA that it had complied with all HUD/FHA regulations in its March 1, 2016 annual certification.

3. Bank of England, Little Rock, AR [Docket No. 16-1669-MR]

Action: On August 25, 2016, the Board voted to accept the terms of a settlement agreement with Bank of England (“BOE”). Pursuant to the terms of the settlement, BOE was required to (a) pay a civil money penalty in the amount of $6,500; and (b) refrain from making any claim for insurance benefits and/or indemnify HUD/FHA for the life of the loan on all losses associated with one HUD/FHA insured loan. The settlement did not constitute an admission of liability or fault.

Cause: The Board took this action based on BOE's alleged violation of HUD/FHA requirements by its failure to verify and adequately document the borrowers' source of funds for closing for two loans.

4. Branch Banking and Trust Company, Greensboro, NC [Docket No. 16-0075-FC]

Action: On September 9, 2016, the Board voted to release Branch Banking and Trust Company (“BB&T”) from any civil money penalties or administrative actions as part of a settlement between BB&T and the United States that required BB&T to pay the United States $83,000,000. The settlement did not constitute an admission of liability or fault.

Cause: The Board took this action based on BB&T's alleged failure to properly originate, underwrite and conduct quality control reviews for HUD/FHA insured loans in violation of HUD/FHA requirements.

5. City First Mortgage Services, LLC, Bountiful, UT [Docket No. 15-1657-MR]

Action: On March 10, 2016, the Board voted to accept the terms of a settlement agreement with City First Mortgage Services, LLC (“City First”) that required City First to pay a civil money penalty in the amount of $35,000 without admitting fault or liability.

Cause: The Board took this action based on the following violations of HUD/FHA requirements alleged by HUD: City First (a) failed to comply with Generally Accepted Accounting Principles by inappropriately placing two real estate properties, and the mortgage loans secured by those properties, on its 2012 and 2013 balance sheets; (b) falsely certified to HUD/FHA that City First had complied with all HUD/FHA regulations in its 2014 annual certification; (c) failed to notify HUD that City First entered into a consent order with and paid a fine to the State of Illinois, Department of Financial and Professional Regulation, Division of Banking; and (d) failed to notify HUD that City First entered into a settlement agreement with and paid a penalty to the Department of Business Oversight for the State of California.

6. First Heritage Financial, LLC., Trevose, PA [Docket No. 16-0000-MR]

Action: On August 25, 2016, the Board voted to accept the terms of a settlement agreement with First Heritage Financial, LLC (“First Heritage”). The settlement agreement required First Heritage to (a) pay a civil money penalty in the amount of $120,500; and (b) refrain from making any claim for insurance benefits and/or indemnify HUD/FHA for the life of the loan on all losses associated with 36 HUD/FHA insured loans. The settlement did not constitute an admission of liability or fault and the Board executed the settlement agreement on January 3, 2017.

Cause: The Board took this action based on the following violations of HUD/FHA requirements alleged by HUD: First Heritage (a) falsely certified to HUD/FHA that First Heritage had complied with all HUD/FHA regulations in its 2015 annual certification; (b) failed to notify HUD that First Heritage entered into a consent agreement and order with and paid a fine to the Pennsylvania Department of Banking, Securities Compliance office; and (c) submitted false loan certifications for 36 loan files by allowing an individual whose mortgage loan license had been suspended and cancelled to process the origination of HUD/FHA insured loans.

7. First Mortgage Company, Oklahoma City, OK [Docket No. 16-1823]

Action: On August 25, 2016, the Board voted to accept the terms of a settlement agreement with First Mortgage Company (“First Mortgage”). Pursuant to the terms of the settlement agreement, First Mortgage was required to pay a civil money penalty in the amount of $5,000 without admitting fault or liability.

Cause: The Board took this action based on First Mortgage's alleged violation of HUD/FHA requirements by its failure to notify HUD that First Mortgage entered into a consent order with and paid fine to the State of Washington's Department of Financial Institutions.

8. Franklin American Mortgage Company, Franklin, IN [Docket No. 15-0094-FC]

Action: On November 29, 2015, the Board voted to release Franklin American Mortgage Company (“FAMC”) from any civil money penalties or administrative actions as part of a settlement between FAMC and the United States that required FAMC to pay the United States $70,000,000. The settlement did not constitute an admission of liability or fault.

Cause: The Board took this action based on FAMC's alleged failure to properly originate, underwrite, and conduct quality control reviews for HUD/FHA insured loans in violation of HUD/FHA requirements.

9. Freedom Mortgage Corporation, Mount Laurel, NJ [Docket No. 16-0034-FC]

Action: On March 10, 2016, the Board voted to release Freedom Mortgage Corporation (“FMC”) from any civil money penalties or administrative actions as part of a settlement between FMC and the United States that required FMC to pay the United States $113,000,000. The settlement did not constitute an admission of liability or fault.

Cause: The Board took this action based on FMC's alleged failure to properly originate, underwrite, and conduct quality control reviews for HUD/FHA insured loans in violation of HUD/FHA requirements.

10. Golden Empire Mortgage, Inc., Bakersfield, CA [Docket No. 16-1670-MR]

Action: On August 25, 2016, the Board voted to accept the terms of a settlement agreement with Golden Empire Mortgage, Inc. (“GEMI”). Pursuant to the terms of the settlement agreement, GEMI was required (a) to pay a civil money penalty in the amount of $128,000; and (b) refrain from making any claim for insurance benefits and/or indemnify HUD/FHA for all losses associated with six HUD/FHA insured loans. The settlement did not constitute an admission of liability or fault.

Cause: The Board took this action based on the following violations of HUD/FHA requirements alleged by HUD: GEMI (a) employed a branch manager who was indicted for bank fraud during his tenure with GEMI; (b) continued to originate HUD/FHA loans that were ineligible for insurance due to GEMI's continued employment of the indicted manager; and (c) failed to promptly notify HUD that GEMI's branch manager had been indicted for bank fraud.

11. HSBC Bank USA NA, Depew, NY [Docket No. 16-0076-FC]

Action: On January 29, 2016, the Board voted to release HSBC Bank USA NA (“HSBC”) from any civil money penalties or administrative actions as part of a settlement between HSBC and the United States that required HSBC to pay the United States $100,000,000. The settlement did not constitute an admission of liability or fault.

Cause: The Board took this action based on HSBC's alleged failure to properly service HUD/FHA insured loans in violation of HUD/FHA requirements.

12. Liberty Bank, Middletown, CT [Docket No. 16-1690 MRT]

Action: On August 25, 2016, the Board voted to accept the terms of a settlement agreement with Liberty Bank. Pursuant to the terms of the agreement, Liberty Bank was required to pay a civil money penalty in the amount of $8,500 without admitting fault or liability.

Cause: The Board took this action based on Liberty Bank's alleged violation of HUD/FHA requirements by its failure to comply with HUD/FHA merger notification requirements.

13. Manufacturers and Traders Trust Company, Buffalo, NY [Docket No. 16-0040-FC]

Action: On March 10, 2016, the Board voted to release Manufacturers and Traders Company (“M&T”) from any civil money penalties or administrative actions as part of a settlement between M&T and the United States that required M&T to pay the United States $64,000,000. The settlement did not constitute an admission of liability or fault.

Cause: The Board took this action based on M&T's alleged failure to properly originate, underwrite, and conduct quality control reviews for HUD/FHA insured loans in violation of HUD/FHA requirements.

14. Meadowbrook Financial Mortgage Bankers Corporation, Garden City, NY [Docket No. 16-1661-MR]

Action: On August 25, 2016, the Board voted to accept the terms of a settlement agreement with Meadowbrook Financial Mortgage Bankers Corporation (“MFMBC”) that required MFMBC to pay a civil money penalty in the amount of $5,000.

Cause: The Board took this action based on MFMBC's alleged violation of HUD/FHA requirements by its improper approval of an HUD/FHA insured mortgage for an ineligible co-borrower as the co-borrower was a non-permanent resident alien and was not going to occupy the property as a principal residence.

15. Mortgage Services III, Bloomington, IL [Docket No. 15-1814-MR]

Action: On October 22, 2015, the Board voted to accept the terms of a settlement agreement with Mortgage Services III, LLC (“MSIII”) that required MSIII to pay a civil money penalty in the amount of $3,500 without admitting fault or liability.

Cause: The Board took this action based on MSIII's alleged violation of HUD/FHA requirements by its failure to obtain a payoff statement for a subordinate lien that was to be paid off with the proceeds of a HUD/FHA insured mortgage.

16. Ocwen Loan Servicing, LLC, West Palm Beach, FL [Docket No. 15-1636-MR]

Action: On June 2, 2016, the Board entered into a settlement agreement with Ocwen Loan Servicing, LLC (“Ocwen”) that required Ocwen to (a) pay a civil money penalty in the amount of $604,000; (b) reimburse HUD in the amount of $225,875 for losses HUD incurred on three HUD/FHA insured loans; and (c) reimburse HUD in the amount of $2,000 for loss mitigation incentive fees with respect to two HUD/FHA insured loans. The settlement did not constitute an admission of liability or fault.

Cause: The Board took this action based on the following violations of HUD/FHA requirements alleged by HUD: Ocwen (a) failed to comply with HUD's loss mitigation requirements with respect to seven loans; (b) failed to send letters to borrowers' attorneys notifying them of the availability of loss mitigation for four loans; (c) failed to conduct and document that it performed a management committee review prior to referring loans to foreclosure for 37 loans; (d) failed to complete foreclosures within the required time frames, without seeking an extension of time from HUD for 18 loans; (e) failed to timely disburse escrow funds for insurance and taxes, resulting in penalties or late fees accruing to the borrower, for five loans; (f) improperly charged borrowers fees that were not in accordance with HUD/FHA requirements for 52 loans; (g) failed to check the Limited Denial of Participation and System for Award Management (“LDP/SAM”) exclusion lists prior to approving a Home Affordable Modification Program (“HAMP”); (h) failed to produce or retain portions of the servicing files as required by HUD for five loans; (i) failed to comply with HUD document requests; (j) failed to accurately report 38 loans in HUD's Single Family Default Monitoring System (“SFDMS”); (k) sent delinquent borrowers outdated HUD documentation; (l) failed to implement a quality control program that contained all of the elements required by HUD; and (m) failed to timely report to HUD a regulatory action by multiple state attorneys general and the CFPB.

17. Peoples Bank, Overland Park, KS [Docket No. 15-1703-MR]

Action: On October 22, 2015, the Board voted to accept the terms of a settlement agreement with Peoples Bank that required Peoples Bank to (a) pay a civil money penalty in the amount of $5,000; and (b) refrain from making any claim for insurance benefits and/or indemnify HUD/FHA for all losses associated with one HUD/FHA insured loan. The settlement did not constitute an admission of liability or fault.

Cause: The Board took this action based on Peoples Bank's alleged violation of HUD/FHA requirements by its failure to reconcile discrepancies with respect to verification of a borrower's employment.

18. RANLife, Inc., Sandy, UT [Docket No.16-0077-FC]

Action: On October 22, 2015, the Board voted to accept the terms of a settlement agreement between RANLife, Inc. (“RANLife”) and the United States that required RANLife to pay the United States $1,032,714.96, of which HUD will receive $1,001,733.51 paid over two years. The settlement did not constitute an admission of liability or fault.

Cause: The Board took this action based on RANLife's alleged violation of HUD/FHA requirements by its failure to properly underwrite and conduct quality control reviews on HUD/FHA insured loans.

19. Regions Bank, Hoover, AL [Docket No. 16-0068-FC]

Action: On September 9, 2016, the Board voted to release Regions Bank (“Regions”) from any civil money penalties or administrative actions as part of a settlement between Regions and the United States that required Regions to pay the United States $52,400,000. The settlement did not constitute an admission of liability or fault.

Cause: The Board took this action based on Regions' alleged failure to properly originate, underwrite, and conduct quality control reviews for HUD/FHA insured loans in violation of HUD/FHA requirements.

20. Renasant Bank, Birmingham, AL [Docket No. 16-1721-MR]

Action: On August 25, 2016, the Board voted to accept the terms of a settlement agreement with Renasant Bank (“Renasant”) that required Renasant to pay a civil money penalty in the amount of $17,000 without admitting fault or liability.

Cause: The Board took this action based on the following violation of HUD/FHA requirements alleged by HUD: Renasant (a) failed to comply with HUD/FHA merger notification requirements; and (b) falsely certified to HUD/FHA that Renasant had complied with all HUD/FHA regulations in its 2015 annual certification.

21. Ross Mortgage Corporation, Troy, MI [Docket No. 16-1633-MR]

Action: On April 21, 2016, the Board voted to accept the terms of a settlement agreement with Ross Mortgage Corporation (“RMC”) that required RMC to: (a) Pay a civil money penalty in the amount of $97,500; (b) pay a sum of $327,500; (c) pay $1,325,000 to reimburse HUD for losses that it has suffered, or anticipates that it will suffer, with respect to 20 HUD/FHA insured loans; and (d) indemnify HUD for 33 HUD/FHA insured loans. The settlement did not constitute an admission of liability or fault.

Cause: The Board took this action based on the following violations of HUD/FHA requirements alleged by HUD: RMC (a) failed to obtain adequate documentation to verify the source of funds or failed to clarify and resolve discrepancies in the documentation prior to the loans' approval for HUD/FHA insurance for 67 loans; (b) accepted and used faxed documents from an undisclosed source without obtaining a copy of the original documents or verifying the authenticity of the information provided for 24 loans; (c) submitted false certifications regarding the origination and processing of seven HUD/FHA insured mortgage loans; (d) failed to comply with HUD's requirements regarding the prohibition on property flipping, or failed to obtain and submit to HUD a complete second appraisal for three loans; (e) failed to consider the borrower's liabilities in the underwriting analysis and to verify and document whether the borrower met HUD/FHA requirements relating to income, credit, and cash investment for six loans; (f) failed to provide adequate documentation to ensure the borrowers were current for the month due prior to closing on the land contract being refinanced for one loan; (g) charged a commitment fee without a written guarantee that ensured the loan terms would not change for a definite period of time for ten loans; and (h) failed to implement a quality control plan that was in compliance with HUD/FHA requirements.

22. SecurityNational Mortgage Company, Salt Lake City, UT [Docket No. 16-0073-FC]

Action: On September 9, 2016, the Board voted to release SecurityNational Mortgage Company (“SNMC”) from any civil money penalties or administrative actions as part of a settlement between SNMC and the United States that required SNMC to pay the United States $4,250,000. The settlement did not constitute an admission of liability or fault.

Cause: The Board took this action based on SNMC's alleged failure properly originate, underwrite, and conduct quality control reviews for HUD/FHA insured loans in violation of HUD/FHA requirements.

23. Sutherland Mortgage Services, Inc., Houston, TX [Docket No. 16-1657-MRT]

Action: On August 25, 2016, the Board voted to seek civil money penalties against Sutherland Mortgage Services, Inc. (“SMS”). The Board entered into a settlement agreement with SMS that required SMS to pay civil money penalties in the amount of $23,500.

Cause: The Board took this action based on the following violations of HUD/FHA requirements as alleged by HUD: SMS (a) failed to timely submit its annual audited financial statement and supplemental reports; (b) failed to notify HUD of quarterly net operating losses exceeding 20%; and (c) failed to notify HUD of a sanction imposed by the State of Oklahoma.

24. TD Bank Group, Falmouth, ME [Docket No. 15-1668-MR]

Action: On March 10, 2016, the Board voted to accept the terms of a settlement agreement with TD Bank Group (“TD Bank”) that required TD Bank to pay a civil money penalty in the amount of $221,000 and indemnify HUD for losses incurred for fourteen HUD/FHA insured loans. The settlement did not constitute an admission of liability or fault.

Cause: The Board took this action based on the following violations of HUD/FHA requirements as alleged by HUD: TD Bank (a) failed to resolve discrepancies regarding the borrower's employment and bank documents with respect to one loan; (b) failed to adequately document the income and/or stability of borrower income for two loans; (c) failed to properly document a gift for one loan; (d) failed to properly record a Mortgage Insurance Certificate for one loan; (e) failed to ensure that borrowers met credit eligibility requirements with respect to four loans; (f) failed to confirm that borrowers in refinance transactions had made all mortgage payments on loans being refinanced within the month due for the prior 12 months for 11 loans; (g) failed to document the mortgage loan payoff statements for five loans; and (h) failed to obtain a Certification for Individual Unit Financing as required for condominium approval.

25. United Shore Financial Services, LLC., Troy MI [Docket No. 15-1566-MR]

Action: On December 17, 2015, the Board voted to accept the terms of a settlement agreement with United Shore Financial Services, LLC (“USFS”) that required USFS (a) to pay a civil money penalty in the amount of $110,500; and (b) refrain from making any claim for insurance benefits and/or indemnify HUD for losses incurred for twenty-four HUD/FHA insured loans. The settlement did not constitute an admission of liability or fault.

Cause: The Board took this action based on the following violations of HUD/FHA requirements alleged by HUD: USFS (a) failed to adequately document the income or stability of income used to qualify borrowers for nine loans; (b) failed to adequately document the source of funds used for the down payment, closing costs, or payment of debt prior to closing for eight loans; (c) failed to consider all of the borrowers' liabilities in the underwriting analysis for six loans; (d) failed to resolve discrepancies or irregularities with respect to social security numbers and paystubs for one loan; (e) failed to correctly calculate the maximum mortgage amount for one loan; (f) failed to properly check the Credit Alert Verification Reporting System (“CAVRS”) by entering the wrong social security number and consequently approving one loan; (g) failed to comply with HUD's property flipping waiver requirements for one loan; (h) failed to submit accurate loan level data in FHA Connection for six loans; and (i) charged borrowers for credit reports in amounts that exceeded USFS's actual costs for ten loans.

II. Lenders That Failed To Timely Meet Requirements for Annual Recertification of HUD/FHA Approval but Came Into Compliance

Action: The Board entered into settlement agreements with the lenders listed below, which required the lender to pay a civil money penalty without admitting fault or liability.

Cause: The Board took this action based upon allegations that the lenders listed below failed to comply with HUD's annual recertification requirements in a timely manner.

1. 1st Constitution Bank, Cranbury, NJ ($3,500) [Docket No.15-1935-MRT]

2. 1st Reliant Home Loans, Inc., Costa Mesa, CA ($3,500) [Docket No. 15-1811-MRT]

3. ADK Bancorp, Inc., Westminster, CA ($8,500) [Docket No.15-1949-MRT]

4. Anchor Mortgage, LLC, Daniel Island, SC ($3,500) [Docket No.16-1607-MRT]

5. Approved Funding Corp., Brooklyn, NY ($8,500) [Docket No. 15-1913-MRT]

6. Arcstone Financial, Inc., Los Angeles, CA ($4,500) [Docket No.16-1839-MRT]

7. Arcstone Financial, Inc., Los Angeles, CA ($3,500) [Docket No. 15-1833-MRT]

8. Associated Credit Union of Texas, League City, TX ($4,500) [Docket No. 16-1734-MRT]

9. Audubon Savings Bank, Audubon, NJ ($3,500) [Docket No. 15-1652-MRT]

10. Aurora Financial Group, Inc., Marlton, NJ ($4,500) [Docket No.16-1788-MRT]

11. Bank Vista, Sartell, MN ($3,500) [Docket No. 15-1916-MRT]

12. Bay Bank, FSB, Timonium, MD ($4,500) [Docket No. 15-1809-MRT]

13. BCB Community Bank, Bayonne, NJ ($16,000) [Docket No. 15-1666-MRT]

14. BondCorp Realty Services, Inc., Newport Beach, CA ($4,250) [Docket No. 15-1859-MRT]

15. Boulder Valley Credit Union, Boulder, CO ($8,500) [Docket No.16-1639-MRT]

16. Bridgeview Mortgage Corporation, Franklin Square, NY ($8,500) [Docket No. 15-1712-MRT]

17. Cache Valley Bank, Logan, UT ($3,500) [Docket No. 14-1635-MRT]

18. Castle Mortgage Corporation, San Diego, CA ($4,500) [Docket No. 16-1680-MRT]

19. CBC Federal Credit Union, Oxnard, CA ($3,500) [Docket No. 15-1604-MRT]

20. CenterBank, Milford, OH ($3,500) [Docket No. 15-1897-MRT]

21. Central Bank, Tampa, FL ($3,500) [Docket No. 15-1866-MRT]

22. Central Bank and Trust, Lander, WY ($3,500) [Docket No. 15-1590-MRT]

23. Chicago Financial Services, Inc., Chicago, IL ($3,500) [Docket No. 15-1955-MRT]

24. Citizens National Bank of Greater St. Louis, Maplewood, MO ($3,500) [Docket No. 15-1581-MRT]

25. Citizens Trust Bank, Atlanta, GA, ($3,500) [Docket No. 15-1760-MRT]

26. City Savings Bank & Trust, Deridder, LA, ($8,500) [Docket No. 15-1761-MRT]

27. Clark County Credit Union, Las Vegas, NV ($3,500) [Docket No. 15-1829-MRT]

28. Community First National Bank, Manhattan, KS ($3,500) [Docket No. 15-1874-MRT]

29. Community Resource Credit Union, Baytown, TX ($4,500) [Docket No. 16-1826-MRT]

30. Community State Bank, Saint Charles, MI ($3,500) [Docket No. 15-1623-MRT]

31. Congressional Bank, Bethesda, MD ($8,500) [Docket No. 15-1763-MRT]

32. Cooperativa de Ahorro y Credito La Puertorriquena, San Juan, PR ($8,500) [Docket No. 16-1600-MRT]

33. CoVantage Credit Union, Antigo, WI ($4,500) [Docket No. 16-1664-MRT]

34. Crescent Mortgage Company, Atlanta, GA ($4,500) [Docket No. 15-1888-MRT]

35. Cross River Bank, Teaneck, NJ ($3,500) [Docket No. 16-1677-MRT]

36. Directors Financial Group, Newport Beach, CA ($4,500) [Docket No. 16-1842-MRT]

37. DSW Mortgage, Inc., Boulder, CO ($4,500) [Docket No. 16-1808-MRT]

38. Eagle Mortgage & Funding Inc., Memphis, TN ($3,500) [Docket No. 15-1725-MRT]

39. Express Solutions Mortgage Corporation, Cabo Rojo, PR ($8,500) [Docket No. 16-1810-MRT]

40. Fifth Third Bank, Cincinnati, OH ($3,500) [Docket No. 16-1648-MRT]

41. First Bank of the Palm Beaches, West Palm Beach, FL ($3,500) [Docket No. 15-1965-MRT]

42. First Capital Bank of Kentucky, Louisville, KY ($3,500) [Docket No. 14-1720-MRT]

43. FirstCity Bank of Commerce, Palm Beach Gardens, FL ($3,500) [Docket No. 15-1890-MRT]

44. First Mariner Bank, Baltimore, MD ($3,500) [Docket No. 15-1927]

45. First National Bank, Southlake, TX ($7,500) [Docket No. 15-1769-MRT]

46. First National Bank, Cortez, Cortez, CO ($4,500) [Docket No. 16-1676-MRT]

47. First National Bank, USA, Boutte, LA ($3,500) [Docket No. 15-1579-MRT]

48. First NBC Bank, New Orleans, LA ($9,468) [Docket No. 16-1844-MRT]

49. First State Bank, Omaha, NE ($3,500) [Docket No. 15-1855-MRT]

50. First Utah Bank, Sandy, UT ($8,500) [Docket No. 15-1715-MRT]

51. Forbix Financial, Flowood, MS ($3,500) [Docket No. 15-1876-MRT]

52. Freedom of Maryland Federal Credit Union, Bel Air, MD ($4,500) [Docket No. 16-1738-MRT]

53. Fremont Bank, Fremont, CA ($3,500) [Docket No. 15-1839-MRT]

54. Global Bancorp d/b/a New Rate Lending, Irvine, CA ($8,500) [Docket No. 15-1967-MRT]

55. Green Bank, N.A., Houston, TX ($4,500) [Docket No. 16-1759-MRT]

56. Guaranty Bank FSB, Milwaukee, WI ($3,500) [Docket No. 15-1898-MRT]

57. Guardian Savings Bank FSB, Cincinnati, OH ($3,500) [Docket No. 15-1873-MRT]

58. Gulf Atlantic Funding Group, Inc., Davie, FL ($8,500) [Docket No. 16-1643-MRT]

59. Highmark Federal Credit Union, Rapid City, SD ($4,500) [Docket No. 16-1654-MRT]

60. Home Bank, N.A., Lafayette, LA ($8,500) [Docket No. 16-1642-MRT]

61. Home Federal Bank, Shreveport, LA ($3,500) [Docket No. 15-1640-MRT]

62. Home Savings Bank, Madison, WI ($3,500) [Docket No. 16-1655-MRT]

63. HR Mortgage Corp., Caguas, PR ($8,500) [Docket No. 15-1925- MRT]

64. iBeriaBank, Lafayette, LA ($3,500) [Docket No. 15-1903-MRT]

65. Integrity Financial Services of Tampa Bay, Inc., Largo, FL ($4,500) [Docket No. 16-1674-MRT]

66. International Bank of Commerce, Laredo, TX ($3,500) [Docket No. 15-1877-MRT]

67. iServe Residential Lending LLC, San Diego, CA ($4,500) [Docket No. 16-1813-MRT]

68. Legends Bank, Clarksville, TN ($3,500) [Docket No. 15-1709-MRT]

69. Liberty Mortgage Corporation, Birmingham, AL ($3,500) [Docket No. 15-1951-MRT]

70. Magnolia Bank, Magnolia, KY ($3,500) [Docket No. 15-1862-MRT]

71. Marketplace Home Mortgage, LLC, Edina, MN ($3,500) [Docket No. 16-1709-MRT]

72. Massachusetts Mutual Life Insurance Company, Springfield, MA ($3,500) [Docket No. 15-1731-MRT]

73. MCT Credit Union, Port Neches, TX ($3,500) [Docket No. 15-1749-MRT]

74. MK Lending Corp., Los Angeles, CA ($8,500) [Docket No. 16-1656-MRT]

75. Mortgage Trust, Inc., Portland, OR ($3,500) [Docket No. 15-1936-MRT]

76. Nationwide Mortgage Bankers, Inc., Lebanon, NJ ($3,500) [Docket No. 15-1942-MRT]

77. Northwest Bank of Rockford, Loves Park, IL ($3,500) [Docket No. 15-1891-MRT]

78. PFL, Inc., San Antonio, TX ($8,500) [Docket No. 15-1892-MRT]

79. Pacific Premier Bank, Irvine, CA ($8,500) [Docket No. 15-1738-MRT]

80. Pacific Transportation Federal Credit Union, Carson, CA ($3,500) [Docket No. 15-1620-MRT]

81. Parks Heritage Federal Credit Union, Glenn Falls, NY ($3,500) [Docket No. 15-1586-MRT]

82. Phenix-Girard Bank, Phenix City, AL ($3,500) [Docket No. 15-1648-MRT]

83. Platinum Bank, Lubbock, TX ($3,500) [Docket No. 15-1932-MRT]

84. PMAC Lending Services, Inc., Chino Hills, CA ($3,500) [Docket No. 15-1751-MRT]

85. Ready Mortgage Lenders LLC, Miami, FL ($3,500) [Docket No. 15-1849-MRT]

86. Ross Mortgage Company, Inc., Westborough, MA ($3,500) [Docket No. 16-1640-MRT]

87. Scient Federal Credit Union, Groton, CT ($3,500) [Docket No.15-1906-MRT]

88. Seattle Metropolitan Credit Union, Seattle, WA ($3,500) [Docket No. 15-1918-MRT]

89. Seckel Capital LLC, Newtown, PA ($3,500) [Docket No.15-1583-MRT]

90. SecurityPlus Federal Credit Union, Baltimore, MD ($10,000) [Docket No. 15-1781-MRT]

91. Southeast Funding Alliance, Inc., Orlando, FL ($8,500) [Docket No. 15-1934-MRT]

92. Southern Crescent Mortgage and Investment Corporation, Fayetteville, GA ($3,500) [Docket No.16-1619-MRT]

93. SpiritBank, N.A., Tulsa, Ok ($3,500) [Docket No. 15-1910-MRT]

94. Standard Pacific Mortgage Inc., Irvine, CA ($4,500) [Docket No. 16-1847-MRT]

95. Sterling United Federal Credit Union, Evansville, IN ($3,500) [Docket No. 15-1954-MRT]

96. Supreme Funding Corporation, Arcadia, CA ($3,500) [Docket No.15-1589-MRT]

97. Telco Triad Community Credit Union, Sioux City, IA ($8,500) [Docket No. 15-1785-MRT]

98. Texas Tech Federal Credit Union, Lubbock, TX ($4,500) [Docket No. 15-1719-MRT]

99. United Texas Bank, Dallas, TX ($3,500) [Docket No. 15-1615-MRT]

100. University First Federal Credit Union, Salt Lake City, UT ($3,500) [Docket No. 15-1923-MRT]

101. U.S. Financial Group, Inc., Lake Charles, LA ($3,500) [Docket No. 15-1909-MRT]

102. Wall Financial, Inc., Los Angeles, CA ($3,500) [Docket No.15-1958-MRT]

103. West One Capital Group, Inc., Newport Beach, CA ($3,500) [Docket No. 15-1850-MRT]

104. West Town Bank & Trust, Frederick, MD ($3,500) [Docket No. 15-1949-MRT]

105. Willamette Valley Bank, Salem, OR ($4,500) [Docket No. 16-1786-MRT]

106. Winona National Bank, Winona, MN ($3,500) [Docket No. 15-1796-MRT]

III. Lenders That Failed To Meet Requirements for Annual Recertification of HUD/FHA Approval

Action: The Board voted to withdraw the FHA approval of each of the lenders listed below for a period of one (1) year.

Cause: The Board took this action based upon allegations that the lenders listed below were not in compliance with HUD's annual recertification requirements.

1. ACNB Bank, Gettysburg, PA [Docket No. 17-173-MRT]

2. Adams Mortgage, LLC, Colorado Springs, CO [Docket No. 15-1907-MRT]

3. Advance Mortgage Bankers, Inc., Bayamon, PR [Docket No. 17-1802-MRT]

4. Advantage Financial Mortgage Bankers, Inc., Robbinsville, NJ [Docket No. 15-1802-MRT]

5. Agree Capital Corporation, Fresh Meadows, NY [Docket No. 17-1809-MRT]

6. AIG Federal Savings Bank, Wilmington, DE [Docket No. 17-1765-MRT]

7. Air Force Federal Credit Union, San Antonio, TX [Docket No. 17-1789-MRT]

8. AllQuest Home Mortgage Corporation, Houston, TX [Docket No. 15-1792-MRT]

9. Amera Mortgage Corporation, Milford, MI [Docket No. 17-1756-MRT]

10. American Investors Bank & Mortgage, Eden Prairie, MN [Docket No. 17-1810-MRT]

11. Americas Mortgage LLC, Wheat Ridge, CO [Docket No. 17-1757-MRT]

12. Anchor Funding Corporation, Norcross, GA [Docket No. 17-1790-MRT]

13. Bank of Commerce, Yukon, OK [Docket No. 16-1783-MRT]

14. Bank of Manhattan, NA, El Segundo, CA [Docket No. 17-1734-MRT]

15. Bank of Union, El Reno, OK [Docket No. 17-1782-MRT]

16. Bank Tennessee, Germantown, TN [Docket No. 14-1590-MRT]

17. Bankers Financial Group, Inc., Bowie, MD [Docket No. 17-1766-MRT]

18. Bankers Mortgage and Investment Group, Inc., Overland Park, KS [Docket No. 15-1663-MRT]

19. Battery Park City Authority, New York, NY [Docket No. 17-1811-MRT]

20. Beacon Federal, East Syracuse, NY [Docket No. 17-1791-MRT]

21. Berkshire Bank, Wyomissing, PA [Docket No. 16-1841-MRT]

22. Biopharmaceutica Coop, Carolina, PR [Docket No. 15-1641-MRT]

23. Blanco National Bank, Spring Branch, TX [Docket No. 17-1758-MRT]

24. BondCorp Realty Services, Inc., Newport Beach, CA [Docket No. 17-1829-MRT]

25. Boulevard Bank, Neosho, MO [Docket No. 17-1792-MRT]

26. Buffalo Trace Area Development District, Maysville, KY [Docket No. 17-1812-MRT]

27. C F Funding Corporation, Naperville, IL [Docket No. 16-1779-MRT]

28. Carnegie Mortgage, LLC, Irvine, CA [Docket No. 17-1738-MRT]

29. Cavalier Mortgage Group, Inc., Raleigh, NC [Docket No. 15-1804-MRT]

30. Chicago Bancorp, Inc., Chicago, IL [Docket No. 16-1848-MRT]

31. Citizen Home Loans of America, Inc., Dayton, OH [Docket No. 17-1813-MRT]

32. Citizens National Bank, N.A., Bossier City, LA [Docket No. 15-1728-MRT]

33. ClearSpring Loan Services, Inc., Dallas, TX [Docket No. 16-1653-MRT]

34. CMS Bank, White Plains, NY [Docket No. 17-1793-MRT]

35. Cobalt Mortgage, Kirkland, WA [Docket No. 17-1739-MRT]

36. Colonial American Bank, Shrewsbury, NJ [Docket No. 17-1803-MRT]

37. Community Bank-Wheaton Glen Ellyn, Glen Ellyn, IL [Docket No. 17-1814-MRT]

38. Corridor Mortgage Company, LLC, Bristol, PA [Docket No. 17-1804-MRT]

39. Covenant Bank, Leeds, AL [Docket No. 17-1740-MRT]

40. Day Air Credit Union, Kettering, OH [Docket No. 15-1611-MRT]

41. Dexter Credit Union, Central Falls, RI [Docket No. 16-1744-MRT]

42. Doral Bank, San Juan, PR [Docket No. 17-1741-MRT]

43. Doral Financial Corporation, San Juan, PR [Docket No. 17-1742-MRT]

44. Evergreen Credit Union, Portland, ME [Docket No. 17-1794-MRT]

45. Farmers Bank & Trust Company, Blytheville, AR [Docket No. 15-1917-MRT]

46. Farmers Citizens Bank, Dublin, OH [Docket No. 17-1767-MRT]

47. Farmington Financial Group LLC, Nashville, TN [Docket No. 17-1759-MRT]

48. FedTrust Mortgage LLC, Farmington Hills, MI [Docket No. 17-1795-MRT]

49. FirstBank, Strasburg, VA [Docket No. 17-1815-MRT]

50. First Capital Mortgage Group, Inc., Pittsburgh, PA [Docket No. 17-1768-MRT]

51. First Century Bank, N.A., Gainesville, GA [Docket No. 16-1878-MRT]

52. First Choice Bank, Cerritos, CA [Docket No. 15-1843-MRT]

53. First Commercial Bank, Oklahoma City, OK [Docket No. 15-1572-MRT]

54. First Financial Services, Charlotte, NC [Docket No. 17-1751-MRT]

55. First Florida Credit Union, Jacksonville, FL [Docket No. 17-1816-MRT]

56. First National Bank, Camdenton, MO [Docket No. 17-1783-MRT]

57. First Savings Bank of Perkasie, Perkasie, PA [Docket No. 17-1750-MRT]

58. First Southern Capital Development Corporation, Rancho Palos Verdes, CA [Docket No. 17-1755-MRT]

59. First State Bank Mortgage Company, LLC, Clinton Township, MI [Docket No. 17-1743-MRT]

60. Flatbush Federal Savings, Brooklyn, NY [Docket No. 17-1760-MRT]

61. Florida Bank of Commerce, Orlando, FL [Docket No. 15-1797-MRT]

62. Foundation First Bank, Omaha, NE [Docket No. 15-1742-MRT]

63. Frontier State Bank, Oklahoma City, OK [Docket No. 16-1787-MRT]

64. Gateway Bank, F.S.B., Oakland, CA [Docket No. 15-1658-MRT]

65. Gencor Mortgage, Inc., Scottsdale, AZ [Docket No. 17-1769-MRT]

66. Global Advisory Group, Inc., Everett, WA [Docket No. 17-1770-MRT]

67. Grand Bank, N.A., Hamilton, NJ [Docket No. 15-1729-MRT]

68. Guaranteed Home Mortgage Company, Inc., White Plains, NY [Docket No. 17-1771-MRT]

69. Hana Financial, Inc., Los Angeles, CA [Docket No. 17-1817-MRT]

70. Harbor National Bank, Mt. Pleasant, SC [Docket No. 17-1752-MRT]

71. Harvard Home Mortgage, Inc., Annapolis, MD [Docket No. 17-1772-MRT]

72. Heritage Bank, Jonesboro, AR [Docket No. 17-1773-MRT]

73. Hickory Point Bank and Trust, F.S.B., Decatur, IL [Docket No. 15-1929-MRT]

74. Home Federal Bank, Nampa, ID [Docket No. 15-1640-MRT]

75. Home Loan Center, Inc., Irvine, CA [Docket No. 17-1784-MRT]

76. Homeowners Mortgage of America, Inc., Jacksonville, FL [Docket No. 17-1774-MRT]

77. Housing Authority of the Osage Tribe, Hominy, OK [Docket No. 17-1818-MRT]

78. Hudson City Savings Bank, Paramus, NJ [Docket No. 17-1805-MRT]

79. Infinity Federal Credit Union, Westbrook, ME [Docket No. 17-1747-MRT]

80. Integrated Financial Group, Inc., Newtown PA [Docket No. 17-1775-MRT]

81. Kenilworth Financial, Oakbrook, Terrace, IL [Docket No. 17-1764-MRT]

82. Lafayette Federal Credit Union, Kensington, MD [Docket No. 16-1853-MRT]

83. Lake Federal Bank, FSB, Hammond, IN [Docket No. 16-1694-MRT]

84. Landmark Credit Union, New Berlin, WI [Docket No. 17-1796-MRT]

85. Lending Solutions, Inc., Duluth, GA [Docket No. 16-1767-MRT]

86. LGE Community Credit Union, Marietta, GA [Docket No. 16-1678-MRT]

87. Liberty Bank of Arkansas, Jonesboro, AR [Docket No. 17-1776-MRT]

88. Loan One Mortgage Co., Inc., Westerville, OH [Docket No. 16-1629-MRT]

89. Main Street Financial, Inc., Indianapolis, IN [Docket No. 17-1819-MRT]

90. Medallion Mortgage Company LLC, Agoura Hills, CA [Docket No. 17-177-MRT]

91. Menna Company, Marietta, GA [Docket No. 16-1726-MRT]

92. Meridian Lending Corporation, Lone Tree, CO [Docket No. 17-1761-MRT]

93. Metropolitan National Bank, Springfield, MO [Docket No. 17-1820-MRT]

94. Midwest Mortgage Capital, LLC, Saint Louis, MO [Docket No. 15-1803-MRT]

95. Minneapolis Community Development Agency, Minneapolis, MN [Docket No. 17-1821-MRT]

96. Monument Bank, Rockville, MD [Docket No. 17-1735-MRT]

97. Mortgage Factory, Inc., Houston, TX [Docket No. 15-1944-MRT]

98. Mortgage House, San Juan, PR [Docket No. 16-1646-MRT]

99. Mortgage Investors Corporation, Saint Petersburg, FL [Docket No. 16-1747-MRT]

100. Mortgage Resources, Inc., Chesterfield, MO [Docket No. 17-1778-MRT]

101. MVB Bank, Inc., Bridgeport, WV [Docket No. 17-1744-MRT]

102. Naugatuck Valley Savings and Loan, Naugatuck, CT [Docket No. 16-1755-MRT]

103. NE Moves Mortgage, LLC, Waltham, MA [Docket No. 17-1822-MRT]

104. Nebraska Investment Finance Authority, Lincoln, NE [Docket No. 17-1823-MRT]

105. North Jersey Federal Credit Union, Totowa, NJ [Docket No. 17-1736-MRT]

106. Northwest Georgia Bank, Ringgold, GA [Docket No. 15-1878-MRT]

107. NYMEO Federal Credit Union, Frederick, MD [Docket No. 15-1795-MRT]

108. Oasis Bank, SSB, Houston, TX [Docket No. 17-1785-MRT]

109. One Mortgage, Inc., Irving, TX [Docket No. 17-1786-MRT]

110. Palmetto South Mortgage Corporation, Columbia, SC [Docket No. 17-1787-MRT]

111. Patriot Bank Mortgage, Inc., Houston, TX [Docket No. 17-1806-MRT]

112. Raaven Capital, Inc., Olympia, WA [Docket No. 17-1807-MRT]

113. RBS Mortgage Corporation, San Juan, PR [Docket No. 17-1797-MRT]

114. Red Stone Agency Lending, LLC, New York, NY [Docket No. 17-1798-MRT]

115. Reliant Mortgage Company, LLC, Beverly MA [Docket No. 15-1751-MRT]

116. Renew Financial Corporation II, Allentown, PA [Docket No. 17-1824-MRT]

117. Resource Mortgage Banking LTD, Tarrytown, NY [Docket No. 17-1788-MRT]

118. Resurgent Capital Services, LP, Greenville, SC [Docket No. 17-1753-MRT]

119. Reverse Mortgage USA, Inc., Dallas TX [Docket No. 17-1762-MRT]

120. Roundpoint Mortgage Company, Charlotte, NC [Docket No. 17-1745-MRT]

121. S Bank, Glennville, GA [Docket No. 15-1661-MRT]

122. Sanford Institution for Savings, Sanford, ME [Docket No. 17-1799-MRT]

123. Schaeffer Mortgage Corporation, Londonderry, NH [Docket No. 17-1825-MRT]

124. Seasons Federal Credit Union, Middletown, CT [Docket No. 15-1883-MRT]

125. Sherburne State Bank, Saint Cloud, MN [Docket No. 17-1779-MRT]

126. Sidus Financial, LLC, Greensboro, NC [Docket No. 16-1811-MRT]

127. Solera National Bank, Colorado Springs, CO [Docket No. 17-1808-MRT]

128. Southern Bank, Poplar Bluff, MO [Docket No. 17-1826-MRT]

129. Southern Puget Sound Inter Tribal Housing Authority, Shelton, WA [Docket No. 17-1827-MRT]

130. Summit Bank, Little Rock, AR [Docket No. 15-1807-MRT]

131. Texas Bay Area Credit Union, Houston, TX [Docket No. 17-1749-MRT]

132. The First National Bank Layton, Layton, UT [Docket No. 17-1754-MRT]

133. The Harbor Bank of Maryland, Baltimore, MD [Docket No. 15-1714-MRT]

134. Trust One Mortgage Corporation, Irvine, CA [Docket No. 17-1748-MRT]

135. TXL Mortgage Corporation, Houston, TX [Docket No. 17-1746-MRT]

136. United Bank, West Springfield, MA, [Docket No. 15-1788-MRT]

137. Union Federal Savings Bank, North Providence, RI [Docket No. 17-1800-MRT]

138. Valley Bank, Davenport, IA [Docket No. 17-1780-MRT]

139. Valley National Bank, Tulsa, OK [Docket No. 15-1746-MRT]

140. Virginia Heritage Bank, Vienna, VA [Docket No. 15-1919-MRT]

141. Vist Bank, Reading, PA [Docket No. 17-1781-MRT]

142. Visterra Credit Union, Moreno Valley, CA [Docket No. 16-1822-MRT]

143. Washington First Bank, Reston, VA [Docket No. 16-1795-MRT]

144. WCS Funding Group, Inc., Baltimore, MD [Docket No. 15-1915-MRT]

145. Western Heritage Bank, N.A., Las Cruces, NM [Docket No. 17-1801-MRT]

146. Wingspan Portfolio Advisors, LLC, Dallas, TX [Docket No. 17-1763-MRT]

147. Your Community Bank, New Albany, IN [Docket No. 17-828-MRT]

Dated: March 30, 2017.
Genger Charles,
General Deputy Assistant Secretary, for Housing/FHA Commissioner, Chairman, Mortgagee Review Board.

[FR Doc. 2017-06642 Filed 4-3-17; 8:45 am]

BILLING CODE 4210-67-P